RAILROAD RETIREMENT BOARD

Proposed Collections; Comment Request

Summary: In accordance with the requirement of section 3506 (c)(2)(A) of the Paperwork Reduction Act of 1995 which provides opportunity for public comment on new or revised data collections, the Railroad Retirement Board (RRB) publishes periodic summaries of proposed data collections. The information collections numbered below are pending at RRB and will be submitted to OMB within 60 days from the date of this notice.

Comments are Invited On: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

1. Title and Purpose of Information Collection

Application for Benefits Due but Unpaid at Death; OMB 3220-0055. Under section 2(g) of the Railroad Unemployment Insurance Act (RUIA), benefits under that Act that accrued but were not paid because of the death of an employee shall be paid to the same individual(s) to whom benefits are payable under section 6(a)(1) of the Railroad Retirement Act. The provisions relating to the payment of such benefits are prescribed in 20 CFR 325.5 and 20 CFR 335.5.

The RRB provides Form UI-63 for use in applying for the accrued sickness or unemployment benefits unpaid at the death of the employee and for securing the information needed by the RRB to identify the proper payee. Completion is required to obtain a benefit. One response is requested of each respondent.

The RRB proposes minor editorial and formatting changes to the UI-63. A column has been added to request the telephone number of the payer of burial expenses and a check box has been added to remind survivors of the deceased employee that proof of relationship is needed to determine the person(s) entitled to unpaid benefits due at the time of death. The completion time for the UI-63 is estimated at 7 minutes. The RRB estimates that approximately 200 responses are received annually.

2. Title and Purpose of Information Collection

Employee's Certification; OMB 3220-0140. Section 2 of the Railroad Retirement Act (RRA), provides for the payment of an annuity to the spouse or divorced spouse of a retired railroad employee. For the spouse or divorced spouse to qualify for an annuity, the RRB must determine if any of the employee's previous marriages create an impediment either to the current marriage between the employee and his or her spouse or to the marriage which previously existed between the employee and his or her former spouse.

The requirements relating to obtaining evidence for determining valid marital relationships are prescribed in 20 CFR 219.30 through 219.35.

Section 2(e) of the RRA requires that an employee must relinquish all rights to any railroad employer service before a spouse annuity can be paid.

The RRB uses Form G-346 to obtain the information needed for determining if any of the employee's previous marriages create an impediment to the current marriage. Form G-346 is completed by the retired employee who is the husband or wife of the applicant for a spouse annuity. Completion is required to obtain a benefit. One response is requested of each respondent.

The RRB proposes to change the function of Form G-346 by requiring that it be completed in all cases where the employee and spouse do not file simultaneously. Currently, Form G-346 is only completed when the spouse filed for an annuity more than 1 year after the employee filed. The RRB also proposes to make minor editorial and formatting changes to Form G-346. The RRB estimates that 7,610 G-346's will be completed annually at an estimated completion time of five minutes per response. Total respondent burden is estimated at 634 hours.

Additional Information or Comments: To request more information regarding any of the information collections listed above or to obtain copies of the information collection justifications, forms, and/or supporting material, please call the RRB Clearance Officer at (312) 751-3363 or send an e-mail request to Charles.Mierzwa@RRB.GOV. Comments regarding the information collections should be addressed to Ronald J. Hodapp, Railroad Retirement Board, 844 North Rush Street, Chicago, Illinois 60611-2092 or send an e-mail to Ronald.Hodapp@RRB.GOV. Written comments should be received within 60 days of this notice.

Charles Mierzwa,
Clearance Officer.

[FR Doc. 05-10631 Filed 5-26-05; 8:45 am]

BILLING CODE 7905-01-P